DEPARTMENT OF ENERGY

Notice of Availability of Draft Global Nuclear Energy Partnership Programmatic Environmental Impact Statement

AGENCY: Office of Nuclear Energy, U.S. Department of Energy.

ACTION: Notice of Availability and Public Hearings.

SUMMARY: The Department of Energy (DOE) announces the availability of the Draft Global Nuclear Energy Partnership Programmatic Environmental Impact Statement (Draft GNEP PEIS, DOE/EIS-0396). The Draft GNEP PEIS provides an analysis of the potential environmental consequences of the reasonable alternatives to support expansion of domestic and international nuclear energy production while reducing the risks associated with nuclear proliferation and reducing the impacts associated with spent nuclear fuel disposal (e.g., by reducing the volume, thermal output, and/or radiotoxicity of waste requiring geologic disposal). Based on the GNEP PEIS and other information, DOE could decide to support the demonstration and deployment of changes to the existing commercial nuclear fuel cycle in the United States. Alternatives analyzed include the existing open fuel cycle and various alternative closed and open fuel cycles. In an open (or once-through) fuel cycle, nuclear fuel is used in a power plant one time and the resulting spent nuclear fuel is stored for eventual disposal in a geologic repository. In a closed fuel cycle, spent nuclear fuel would be recycled to recover energy-bearing components for use in new nuclear fuel.

Six programmatic domestic alternatives are assessed: No Action Alternative—Existing Once-Through Uranium Fuel Cycle (open fuel cycle); Fast Reactor Recycle Fuel Cycle Alternative (closed fuel cycle); Thermal/Fast Reactor Recycle Fuel Cycle Alternative (closed fuel cycle); Thermal Reactor Recycle Fuel Cycle Alternative (closed fuel cycle); Once-Through Fuel Cycle Alternative using Thorium (open fuel cycle); and Once-Through Fuel Cycle Alternative using Heavy Water Reactors (HWRs) or High Temperature Gas-Cooled Reactors (HTGRs) (open fuel cycle). DOE's preference is to close the nuclear fuel cycle, although it has not yet identified a specific preferred alternative.

DATES: DOE invites comments on the Draft GNEP PEIS during the 60-day public comment period, which ends on December 16, 2008. DOE will consider comments received after this date to the extent practicable as it prepares the Final GNEP PEIS. DOE will hold 13 public hearings on the Draft GNEP PEIS. The locations, dates, and times are listed in the SUPPLEMENTARY INFORMATION section.

ADDRESSES: Requests for additional information on the Draft GNEP PEIS, including requests for copies of the document, should be directed to: Mr. Francis G. Schwartz, GNEP PEIS Document Manager, Office of Nuclear Energy, U.S. Department of Energy, 1000 Independence Avenue, SW., Washington, DC 20585, or by telephone: 866-645-7803. Written comments on the Draft GNEP PEIS should be submitted to the above address, by facsimile to 866-489-1891, or electronically through http://www.regulations.gov. Instructions for commenting at http://www.regulations.gov are included in the SUPPLEMENTARY INFORMATION section. Please mark correspondence “Draft GNEP PEIS Comments.” Additional information on GNEP may be found at http://www.gnep.energy.gov.

For general information regarding the DOE NEPA process contact: Ms. Carol M. Borgstrom, Director, Office of NEPA Policy and Compliance, GC-20, U.S. Department of Energy, 1000 Independence Avenue, SW., Washington, DC 20585, telephone 202-586-4600, or leave a message at 1-800-472-2756. Additional information regarding DOE NEPA activities and access to many of DOE's NEPA documents are available on the Internet through the DOE NEPA Web site at http://www.gc.energy.gov/NEPA.

SUPPLEMENTARY INFORMATION: Public Hearings and Invitation to Comment. DOE will hold 13 public hearings on the Draft GNEP PEIS. The hearings will be held at the following locations, dates, and times:

Monday, November 17, 7 p.m., Lea County Event Center, 5101 North Lovington-Hobbs Highway, Hobbs, New Mexico 88240.

Monday, November 17, 7 p.m., Red Lion Hotel, 2525 North 20th Avenue, Pasco, Washington 99301.

Tuesday, November 18, 9 a.m., Pecos River Village Conference Center, Carousel House, 711 Muscatel Avenue, Carlsbad, New Mexico 88220.

Tuesday, November 18, 7 p.m., Eastern New Mexico University-Roswell, Occupational Technology Center, Seminar Room 124, 20 West Mathis, Roswell, New Mexico 88130.

Tuesday, November 18, 7 p.m., Hood River Inn—Gorge Room, 1108 East Marina Way, Hood River, Oregon 97031.

Thursday, November 20, 7 p.m., Hilltop House Best Western, 400 Trinity Drive (at Central), Los Alamos, New Mexico 87544.

Thursday, November 20, 7 p.m., Hilton Garden Inn, 700 Lindsay Boulevard, Idaho Falls, Idaho 83402.

Monday, December 1, 7 p.m., Carson Four Rivers Center, Myre River Room, 100 Kentucky Avenue, Paducah, Kentucky 42003.

Tuesday, December 2, 7 p.m., Vern Riffe Career Technology Center, 175 Beaver Creek Road, Piketon, Ohio 45661.

Tuesday, December 2, 7 p.m., New Hope Center, 602 Scarboro Road, Corner of New Hope and Scarboro Roads, Oak Ridge, Tennessee 37830.

Thursday, December 4, 7 p.m., Holiday Inn Bolingbrook, 205 Remington Boulevard, Bolingbrook, Illinois 60440.

Thursday, December 4, 7 p.m., Aiken Technical College, Building 700—Amphitheater, 2276 Jefferson Davis Highway, Graniteville, South Carolina 29829.

Tuesday, December 9, 1 p.m., Holiday Inn Capitol, 550 C Street, SW., Washington, DC 20024.

Individuals who would like to present comments orally at these hearings must register upon arrival at the hearing. DOE will allot two to five minutes, depending upon the number of speakers, to each individual wishing to speak so as to ensure that as many people as possible have the opportunity to speak. More time may be allotted by the hearing moderator as circumstances allow. An open house will begin one hour prior to the start of each public hearing. DOE officials will be available to discuss the Draft GNEP PEIS and answer questions during this open house. DOE will then hold a plenary session at each public hearing in which officials will explain the Draft GNEP PEIS and the analyses in it. Following the plenary session, the public will have an opportunity to provide oral and written comments. Oral comments from the hearings and written comments submitted during the comment period will be considered by DOE in preparing the Final GNEP PEIS. Comments submitted after the close of the comment period will be considered to the extent practicable.

The Draft GNEP PEIS, references and additional information regarding the GNEP Program are available on the Internet at http://www.gnep.energy.gov. In addition, the Draft GNEP PEIS is available on the Internet at http://www.regulations.gov and on the DOE NEPA Web site at http://www.gc.energy.gov/NEPA.

To Comment Electronically on the Internet. Visit http://www.regulations.gov. From the home page of regulations.gov, under “More Search Options” in the right column of the Web page, select “Go.” This loads a new Web page titled “More Search Options.” In the middle column is an option to “Search by Agency.” Type “DOE” and select “Go.” The left column of the new page lists options to “Narrow Results.” Under “Comment Period,” select “Open” and this will display all DOE documents available for public comment. Select DOE Global Nuclear Energy Partnership Programmatic Environmental Impact Statement. You can view the document in Adobe Acrobat (.pdf) or HTML format.

To submit comments on the GNEP PEIS, select “Send a Comment or Submission” under the title. On the “Public Comment and Submission Form,” enter your name, address, and other requested information. This information will be used to compile the distribution list for the Final GNEP PEIS. You can type your comments in the “General Comments” box provided on the comment form. There is no limit to the number of characters that you can type in this box. You also can attach electronic files with your text comments. To view the file types accepted by regulations.gov, select “Learn More” below the General Comments box. You can attach as many files as you wish. Regulations.gov will show a message when you have successfully uploaded a file. Individual submissions are limited to 10MB (10,000KB). To submit files greater than 5MB, please compress the attached file(s) using file compression software or submit each attachment separately using multiple submissions. After completing the form and including any attachments, you must select “Next Step,” under “Action” at the bottom of the Web page, in order for your comments to be submitted to DOE.

The Draft GNEP PEIS and references are available for review by the public at the DOE Reading Rooms and public libraries listed below:

U.S. Department of Energy, FOIA/Privacy Act Group, 1000 Independence Avenue, SW., Washington, DC 20585, Phone: (202) 586-3142.

Carlsbad Field Office, U.S. Department of Energy, WIPP Information Center, 4021 National Parks Highway, P.O. Box 2078, Carlsbad, New Mexico 88220, Phone: 1-800-336-WIPP.

Chicago Operations Office, U.S. Department of Energy, Office of Science Public Reading Room, Document Department, University Library, The University of Illinois at Chicago, 801 South Morgan Street, 3rd Floor Center, Chicago, Illinois 60607, DOE Contact: Gary Pitchford, Phone: (630) 252-2013.

Idaho Operations Office, U.S. Department of Energy, Public Reading Room, 1776 Science Center Drive, Idaho Falls, Idaho 83415-2300, Reading Room Contact: Gail Willmore, Phone: (208) 526-9162.

Paducah Gaseous Diffusion Plant, Department of Energy, Environmental Information Center and Reading Room, 115 Memorial Drive, Barkley Centre, Paducah, Kentucky 42001, Phone: (270) 554-6979.

Los Alamos Site Office, LANL Research Library, Technical Area 3, Building 207, Los Alamos, New Mexico 87545, Phone: (505) 667-5809.

Oak Ridge Operations Office, DOE Oak Ridge Information Center, 475 Oak Ridge Turnpike, Oak Ridge, Tennessee 37830, Phone: (865) 241-4780 or (toll-free) 1(800) 382-6938, option 6.

Richland Operations Office, U.S. Department of Energy, Public Reading Room, MSIN H2-53, P.O. Box 999, Richland, Washington 99352, Contact: Terri Traub, Phone: (509) 372-7443.

Savannah River Operations Office, U.S. Department of Energy, Public Reading Room, 471 University Parkway, Aiken, South Carolina 29801, Contact: Paul Lewis, Phone: (803) 641-3320.

Albuquerque Operations Office, FOIA Reading Room and DOE Reading Rooms, Government Information Department, Zimmerman Library, University of New Mexico, Albuquerque, New Mexico 87131-1466, Contact: Dan Barkley, Phone: (505) 277-7180.

Portsmouth Gaseous Diffusion Plant, Department of Energy, Environmental Information Center, 1862 Shyville Road, Room 220, Piketon, Ohio 45661.

Background

The Global Nuclear Energy Partnership (GNEP), a part of the President's Advanced Energy Initiative, is intended to support a safe, secure, and sustainable expansion of nuclear energy, both domestically and internationally. Domestically, the GNEP Program would promote technologies that support economic, sustained production of nuclear-generated electricity, while reducing the impacts associated with spent nuclear fuel disposal and reducing proliferation risks. DOE envisions changing the U.S. nuclear energy fuel cycle from an open (or once-through) fuel cycle—in which nuclear fuel is used in a power plant one time and the resulting spent nuclear fuel is stored for eventual disposal in a geologic repository—to a closed fuel cycle, in which spent nuclear fuel would be recycled to recover energy-bearing components for use in new nuclear fuel. Internationally, the U.S., through the GNEP Program, is considering various initiatives to work cooperatively with other nations to expand nuclear power to help meet growing energy demand, develop and deploy advanced nuclear recycling and reactor technologies, establish international frameworks to provide nuclear fuel supplies, and promote the development of nuclear safeguards and of more proliferation-resistant nuclear power reactors.

On March 22, 2006, DOE published an Advance Notice of Intent for the Global Nuclear Energy Partnership Technology Demonstration Program Environmental Impact Statement in the Federal Register (71 FR 14505). The Advance Notice of Intent explained the goals of the GNEP Program, three major elements of the then-proposed GNEP Technology Demonstration Program, and the purpose and need for action, and presented a list of potential environmental issues for analysis. In the notice, DOE solicited comments on the proposed scope, alternatives, and environmental issues to be analyzed in the then-planned GNEP Technology Demonstration EIS. DOE received about 800 comment documents, including comments that DOE should prepare a PEIS addressing the entire GNEP Program, not just the GNEP Technology Demonstration Program.

On August 3, 2006, DOE announced that it would issue financial assistance grants to public or commercial entities interested in hosting GNEP facilities (DOE, “Financial Assistance Funding Opportunity Announcement Global Nuclear Energy Partnership (GNEP) Siting Studies,” Funding Opportunity Number: DE-PS07-06ID14760). DOE reviewed the resulting grant applications and on January 30, 2007, issued grants to 11 commercial and public consortia to conduct siting studies for hosting an advanced nuclear fuel recycling center and/or an advanced recycling reactor.

On January 4, 2007, DOE published the Notice of Intent for the GNEP PEIS in the Federal Register (72 FR 331). That Notice of Intent explained the scope of the revised GNEP Program, identified the alternatives that were then proposed for evaluation, described the purpose and need for action, identified potential sites that could host GNEP Program facilities (including those sites addressed by the siting study grants), and listed potential environmental issues for analysis. Subsequent to the Notice of Intent, DOE held public scoping meetings near the sites that were under consideration and in Washington, DC.

DOE received approximately 14,000 comment letters/e-mails and oral comments related to the scope of the GNEP PEIS. The major scoping comments related to the purpose and need, the alternatives that were being considered, the various resource areas that should be addressed in the PEIS, and proliferation risk.

In response to public comments and as the programmatic analysis developed, DOE determined that to make project-specific or site-specific decisions regarding any of the three originally proposed facilities would be premature. The programmatic decisions to be made would influence the size and type of facilities required for implementing an alternative fuel cycle (the originally proposed nuclear fuel recycling center and advanced recycling reactor) as well as the facility needed to support research, development, and deployment (an Advanced Fuel Cycle Facility). As a result, no project-specific or site-specific proposals are being made at this time.

The GNEP PEIS assesses the following six domestic programmatic alternatives:

No Action Alternative—Existing Once-Through Uranium Fuel Cycle: The United States would continue to rely upon a once-through or “open” fuel cycle, in which commercial light water reactors (LWRs) generate and store SNF until DOE could accept the SNF for disposal in a geologic repository.

Fast Reactor Recycle Fuel Cycle Alternative: The United States would pursue a domestic closed fuel cycle in a system that processes LWR SNF in one or more nuclear fuel recycling centers and would recycle some of the recovered materials in one or more fast reactors. The SNF from the advanced recycling reactors (i.e., fast reactors) would also be processed to recover materials for repeated recycle in advanced recycling reactors. High-level wastes (HLW) from separations would be disposed of in a geologic repository.

Thermal/Fast Reactor Recycle Fuel Cycle Alternative: This closed fuel cycle alternative would be similar to the Fast Reactor Recycle Alternative, but it would recycle some of the recovered materials in thermal reactors prior to recycling in advanced recycling reactors. HLW from separations would be disposed of in a geologic repository.

Thermal Reactor Recycle Fuel Cycle Alternative: The United States would pursue a domestic closed fuel cycle that processes LWR SNF and recycles some of the recovered materials in thermal reactors. The following three options are assessed: Option 1—Recycle LWR SNF to produce a mixed oxide uranium plutonium (MOX-U-Pu) fuel for use in LWRs; Option 2—Recycle LWR SNF to produce fuel for use in heavy water reactors (HWRs); and Option 3—Recycle LWR SNF to produce a transuranic fuel for use in high temperature gas-cooled reactors (HTGRs). Option 1 would be a closed fuel cycle, in which HLW would be disposed of in a geologic repository. Options 2 and 3, which include recycling of LWR SNF, would dispose of HLW and SNF in a geologic repository.

Once-Through Fuel Cycle Alternative Using Thorium: The United States would pursue a thorium once-through or “open” fuel cycle, in which commercial reactors would be fueled with thorium/uranium-based fuels. Because thorium-based fuels would be compatible with existing LWRs, the Thorium Alternative could also be characterized as representing a “new fuel design.” The SNF would be stored until DOE could accept it for disposal in a geologic repository.

Once-Through Fuel Cycle Alternative using Heavy Water Reactors (HWRs) or High Temperature Gas-Cooled Reactors (HTGRs): The United States would pursue a domestic once-through or “open” fuel cycle that uses either HWRs or HTGRs. For the HWR/HTGR Alternative, two options are assessed: Option 1—Use HWRs only; and Option 2—Use HTGRs only. In either case, the SNF would be stored until DOE could accept it for disposal in a geologic repository.

These domestic programmatic alternatives are not mutually exclusive. That is, DOE could decide to pursue implementation of one or more domestic programmatic alternatives.

In general, the analyses in the GNEP PEIS indicate that the closed fuel cycle alternatives offer a greater opportunity, relative to the open fuel cycle alternatives, to reduce the capacity requirements for a future geologic repository, and to reduce the hazards associated with the disposal of spent fuel or high-level radioactive waste. However, the closed fuel cycle alternatives require more disposal capacity for other radioactive wastes than is required under the open fuel cycle alternatives. Furthermore, transportation and associated health impacts from the closed fuel cycle alternatives would be generally higher during the operational period than those from the open fuel cycle alternatives (except for the Once-Through Fuel Cycle using High Temperature Gas-Cooled Reactors).

Following completion of the GNEP PEIS, DOE will be in a position to decide whether to pursue a closed fuel cycle. The GNEP PEIS is a first, important step in deciding whether and how to recycle spent nuclear fuel. A decision to go forward with recycling could trigger additional proposals and research to achieve DOE's programmatic goal. Subsequent DOE policies and actions could also affect decisions by the U.S. commercial utility industry, which would ultimately determine whether and how to implement any changes in the domestic fuel cycle. Any DOE proposals would be subject to appropriate NEPA review.

The PEIS also discusses international aspects of the GNEP Program, but does not evaluate any proposed actions or alternatives. Consequently, DOE would not make any decisions related to international activities based on the GNEP PEIS.

Issued in Washington, DC, on October 10, 2008.
Dennis R. Spurgeon,
Assistant Secretary for Nuclear Energy.

[FR Doc. E8-24669 Filed 10-16-08; 8:45 am]

BILLING CODE 6450-01-P